DEPARTMENT OF TRANSPORTATION

Federal Aviation Administration

14 CFR Part 39

[Docket No. FAA-2010-0806; Directorate Identifier 2010-SW-071-AD; Amendment 39-16397; AD 2010-15-51]

RIN 2120-AA64

Airworthiness Directives; Agusta S.p.A. Model A119 and AW119 MKII Helicopters

AGENCY: Federal Aviation Administration, DOT.

ACTION: Final rule; request for comments.

SUMMARY: This document publishes in the Federal Register an amendment adopting Airworthiness Directive (AD) 2010-15-51, which was sent previously to all known U.S. owners and operators of Agusta S.p.A. (Agusta) Model A119 and AW119 MKII helicopters by individual letters. This AD requires, within 5 hours time-in-service (TIS), and thereafter at intervals not to exceed 50 hours TIS, removing the cover of each pilot and co-pilot control box assembly (control box) and inspecting each rotary variable differential transformer (RVDT) control gear locking pin (locking pin) for proper position. If a locking pin is recessed, extended, or missing, this AD requires replacing the control box before further flight. This amendment is prompted by a report that an RVDT locking pin that was installed on a Model AW119 MKII helicopter moved from its proper position, resulting in loss of connectivity of the pilot and co-pilot throttle controls. The actions specified by this AD are intended to prevent the RVDT locking pin from moving from its proper position, which could lead to loss of manual engine throttle control, and subsequent loss of control of the helicopter.

DATES: Effective September 2, 2010, to all persons except those persons to whom it was made immediately effective by Emergency AD 2010-15-51, issued on July 16, 2010, which contained the requirements of this amendment.

The incorporation by reference of certain publications listed in the regulations is approved by the Director of the Federal Register as of September 2, 2010.

Comments for inclusion in the Rules Docket must be received on or before October 18, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta, Via Giovanni Agusta, 520 21017 Cascina Costa di Samarate (VA), Italy, telephone 39 0331-229111, fax 39 0331-229605/222595, or at http://customersupport.agusta.com/technical_advice.php.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Rao Edupuganti, Aviation Safety Engineer, FAA, Rotorcraft Directorate, Regulations and Policy Group, 2601 Meacham Blvd., Fort Worth, Texas 76137, telephone (817) 222-4389, fax (817) 222-5961.

SUPPLEMENTARY INFORMATION: On July 16, 2010, we issued Emergency AD 2010-15-51 for the specified model helicopters, which requires, within 5 hours TIS, and thereafter at intervals not to exceed 50 hours TIS, removing the cover of the pilot and co-pilot control boxes and inspecting each RVDT locking pin for proper position. If a locking pin is recessed, extended, or missing, the AD requires replacing the control box before further flight. That action was prompted by a report that an RVDT locking pin that was installed on a Model AW119 MKII helicopter moved from its proper position, resulting in loss of connectivity of the pilot and co-pilot throttle controls. Investigation revealed that the pilot's locking pin had moved from its proper position, which resulted in the loss of the co-pilot throttle control. This condition, if not detected and corrected, could result in loss of manual engine throttle control, and subsequent loss of control of the helicopter.

The European Aviation Safety Agency (EASA), which is the Technical Agent for the Member States of the European Community, notified us that an unsafe condition may exist on Agusta Model A119 and AW119 MKII helicopters. EASA advises of a nonconformity of certain control boxes, unseating of a locking pin, and loss of the pilot and co-pilot engine throttle synchronicity. EASA states this condition, if not detected and corrected, could lead to the loss of manual engine throttle control and consequent loss of control of the helicopter.

Agusta has issued Alert Bollettino Tecnico No. 119-39, dated July 2, 2010 (ABT). The ABT describes procedures for inspecting the pilot and co-pilot control box for correct positioning of the locking pin. The ABT states that the investigation is still in progress to find a solution to the malfunction. The instructions in the ABT are prescribed as precautionary pending future corrective action. EASA classified this ABT as mandatory and issued Emergency AD 2010-0142-E, dated July 5, 2010, to ensure the continued airworthiness of these helicopters. This AD differs from EASA Emergency AD No. 2010-0142-E in that we use the term “hours time-in-service” rather than “flight hours.” Also, we clarify the inspection requirements and do not use the calendar date of August 31, 2010 as a required compliance time.

These helicopter models are manufactured in Italy and are type certificated for operation in the United States under the provisions of 14 CFR 21.29 and the applicable bilateral agreement. Pursuant to the applicable bilateral agreement, EASA has kept the FAA informed of the situation described. We have examined the findings of EASA, reviewed all available information, and determined that AD action is necessary for products of these type designs that are certificated for operation in the United States.

Since the unsafe condition described is likely to exist or develop on other Agusta Model A119 and AW119 MKII helicopters of the same type design, we issued Emergency AD 2010-15-51 to detect a missing or improperly fitted RVDT locking pin, which could lead to loss of manual engine throttle control, and subsequent loss of control of the helicopter. The AD requires, within 5 hours TIS, and thereafter at intervals not to exceed 50 hours TIS, removing the cover of the pilot and co-pilot control boxes and inspecting the locking pins for proper position. If the locking pin is recessed or extended in excess of 2.0 millimeters from the face of the pin bore, or missing, before further flight, replacing the control box with an airworthy control box that has been inspected in accordance with paragraph (a) of the AD is required. Replacing the control box does not constitute terminating action for the inspection requirements of the AD. The actions must be accomplished in accordance with specified portions of the ABT described previously.

The short compliance time involved is required because the previously described critical unsafe condition can adversely affect the controllability of the helicopter. The actions previously described are required within short compliance times: 5 hours TIS and then at intervals not to exceed 50 hours TIS for the initial and repetitive inspections and before further flight for any required control box replacement; therefore, this AD must be issued immediately.

Since it was found that immediate corrective action was required, notice and opportunity for prior public comment thereon were impracticable and contrary to the public interest, and good cause existed to make the AD effective immediately by individual letters issued on July 16, 2010 to all known U.S. owners and operators of Agusta Model A119 and AW119 MKII helicopters. These conditions still exist, and the AD is hereby published in the Federal Register as an amendment to 14 CFR 39.13 to make it effective to all persons.

We estimate that this AD will affect 32 helicopters of U.S. registry. Each inspection of both control boxes will take 1½ hours and each control box replacement will take approximately 8 work hours (2 per helicopter). The average labor rate is $85 per work hour. It will cost approximately $12,852 for a pilot control box and $11,768 for a co-pilot control box. Based on these figures, we estimate the total cost impact of the AD on U.S. operators to be $835,440 ($26,108 per helicopter, assuming 1 inspection of each control box and replacing both control boxes on each helicopter).

Comments Invited

This AD is a final rule that involves requirements that affect flight safety and was not preceded by notice and an opportunity for public comment; however, we invite you to submit any written data, views, or arguments regarding this AD. Send your comments to an address listed under ADDRESSES. Include “Docket No. FAA-2010-0806; Directorate Identifier 2010-SW-071-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-15-51 Agusta S.p.A.: Amendment 39-16397. Docket No. FAA-2010-0806; Directorate Identifier 2010-SW-071-AD.

Applicability: Model A119 and AW119 MKII helicopters, with pilot control box assembly (control box), part number (P/N) 109-0010-81-103, and co-pilot control box, P/N 109-0010-81-107, installed, certificated in any category.

Compliance: Required as indicated.

To detect a missing, or improperly fitted, engine rotary variable differential transformer (RVDT) control gear locking pin (locking pin), P/N MS16555-628, which could lead to loss of manual engine throttle control, and subsequent loss of control of the helicopter, accomplish the following:

(a) Within 5 hours time-in-service (TIS) unless accomplished previously, and thereafter at intervals not to exceed 50 hours TIS, remove the cover of the pilot and co-pilot control boxes and inspect the locking pins for proper position by following the Compliance Instructions, Parts I and II, paragraphs 2. through 4.1 for the pilot control box and paragraphs 5. through 7.1 for the co-pilot control box, in Agusta Alert Bollettino Tecnico No. 119-39, dated July 2, 2010.

(b) If the locking pin is recessed or extended in excess of 2.0 millimeters from the face of the pin bore, or missing, before further flight, replace the control box with an airworthy control box that has been inspected in accordance with paragraph (a) of this AD. Replacing the control box does not constitute terminating action for the inspection requirements of this AD.

(c) To request a different method of compliance or a different compliance time for this AD, follow the procedures in 14 CFR 39.19. Contact the Manager, Safety Management Group, FAA, ATTN: Rao Edupuganti, Aviation Safety Engineer, Rotorcraft Directorate, Regulations and Policy Group, 2601 Meacham Blvd., Fort Worth, Texas 76137, telephone (817) 222-4389, fax (817) 222-5961, for information about previously approved alternative methods of compliance.

(d) The Joint Aircraft System/Component (JASC) Code is 6700: Rotors Flight Control.

(e) The inspections shall be done in accordance with the specified portions of Agusta Alert Bollettino Tecnico No. 119-39, dated July 2, 2010. The Director of the Federal Register approved this incorporation by reference in accordance with 5 U.S.C. 552(a) and 1 CFR part 51. Copies may be obtained from Agusta, Via Giovanni Agusta, 520 21017 Cascina Costa di Samarate (VA), Italy, telephone 39 0331-229111, fax 39 0331-229605/222595, or at http://customersupport.agusta.com/technical_advice.php. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on September 2, 2010, to all persons except those persons to whom it was made immediately effective by Emergency AD 2010-15-51, issued July 16, 2010, which contained the requirements of this amendment.

Note: The subject of this AD is addressed in European Aviation Safety Agency AD 2010-0142-E, dated July 5, 2010.

Issued in Fort Worth, Texas, on August 4, 2010.
Scott A. Horn,
Acting Manager, Rotorcraft Directorate, Aircraft Certification Service.

[FR Doc. 2010-19816 Filed 8-17-10; 8:45 am]

BILLING CODE 4910-13-P